DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of April 2 through April 6, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. the country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' Separation or threat of separation.

In order for the Division of Trade Adjustment Assistance to issued a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-61,011; Shafer Electronics Co., Shafer MN: March 15, 2007.

TA-W-61,023; Lenze Corporation, Emporia, KS: February 23, 2006.

The following certifications have been issued. The requirements of Section 222(a)(2)(B) (shift in production) of the Trade Act have been met.

TA-W-61,008; Hutchens Industries, Inc. Foundry, Mansfield, MO: February 8, 2006.

TA-W-61,018; International Truck and Engine Corporation Truck Development and Technical Center, Fort Wayne, IN: February 22, 2006.

The following certifications have been issued. The requirements of Section 222(b) (supplier to a firm whose workers are certified eligible to apply for TAA) of the Trade Act have been met.

TA-W-61,210; Carlson Wood Products, Inc., Sinclairville, NY: March 22, 2006.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-60,974; Cadence Innovation, Advanced Engineering Center, Fraser, MI: January 19, 2006.

TA-W-61,067; Johnson Controls, Grace Power Plant, On-Site at Springs Global, Lancaster, SC: February 19, 2006.

TA-W-61,111; Bodine Electric Company, Sedona Staffing, Peosta, IA: March 14, 2006.

TA-W-61,144; Royal Home Fashions, A Subsidiary of Croscill, Inc., Durham, NC: February 14, 2006.

TA-W-61,155; Pine Hosiery Mills, Inc., Ether Plant, Star, NC: March 15, 2006.

TA-W-61,163; Springs Global US, Inc., Calhoun Division, Defender Industries, Calhoun, GA: March 21, 2006.

TA-W-60,596; TTM Technologies, Formerly Know As Tyco Electronics, Kelly Services, Dallas, OR: February 18, 2007.

TA-W-60,840; Marathon Apparel, Temp Force of Sylacauga, Childersburg, AL: January 25, 2006.

TA-W-60,968; Delux Media Services LLC, Staff Management, North Little Rock, AR: February 14, 2006.

TA-W-60,937; Key Fashion, Inc., Brooklyn, NY: February 8, 2006.

The following certifications have been issued. The requirements of Section 222(a)(2)(B) (shift in production) and Section 246(a)(3)(A)(ii) of the Trade Act have been met.

TA-W-60,995; Distinctive Designs Furniture USA, Granite Falls Division, Express Personal, Granite Falls, NC: February 19, 2006.

TA-W-61,080; A.O. Smith Electrical Products Company, McMinnville, TN: March 19, 2007.

TA-W-61,088; Evans Rule Company, Inc., L.S. Starrett Co., Inc., Charleston, SC: March 8, 2007.

TA-W-61,148; Russell Corporation, Plant #10, Alexander City, AL: August 27, 2006.

TA-W-61,170; Centurion Wireless Technologies, d/b/a Laird Technologies, Lincoln, NE: March 22, 2006.

TA-W-61,102; Springs Global US, Inc., Hartwell Weaving and Yarn Div., Defender Services Johnson, Hartwell, GA: March 30, 2007.

TA-W-60,823; Industrial Metal Products Corporation, Lansing, MI: January 19, 2006.

TA-W-61,090; Easton Sports, Inc, Div. of Easton-Bell Sports, Select Personnel, Onsite Agency, Van Nuys, CA: March 9, 2006.

TA-W-61,105; Kidde Fenwal, Kidde North America Division, Davis Companies, Ashland, MA: March 12, 2006.

TA-W-61,169; Mitsui Components, Inc., Mitsui Smelting and Mining, Adecco, Casa Grande, AZ: March 19, 2006.

The following certifications have been issued. The requirements of Section 222(b) (supplier to a firm whose workers are certified eligible to apply for TAA) and Section 246(a)(3)(A)(ii) of the Trade Act have been met.

TA-W-61,020; Stroupe Mirror Company, Thomasville, NC: February 24, 2006.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. Workers at the firm are 50 years of age or older.

TA-W-61,011; Shafer Electronics Co., Shafer, MN.

TA-W-61,210; Carlson Wood Products, Inc., Sinclairville, NY.

The Department has determined that criterion (2) of Section 246 has not been met. Workers at the firm possess skills that are easily transferable.

TA-W-61,008; Hutchens Industries, Inc. Foundry Mansfield, MO.

TA-W-61,018; International Truck and Engine Corporation Truck Development and Technical Center, Fort Wayne, IN.

TA-W-61,023; Lenze Corporation, Emporia, KS.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-61,033; Trans-Matic Manufacturing, Holland, MN.

TA-W-61,156; Classic Tool Inc, Saegertown, MI.

The investigation revealed that criteria (a)(2)(A)(I.B.) (Sales or production, or both, did not decline) and (a)(2)(B)(II.B.) (shift in production to a foreign country) have not been met.

TA-W-61,114; Vestal Manufacturing Enterprises, Inc., Sweetwater, GA.

TA-W-61,158; Jeld Wen Door Systems, Door Division, Chiloquin, NC.

The investigation revealed that criteria (a)(2)(A)(I.C.) (increased imports) and (a)(2)(B)(II.B.) (shift in production to a foreign country) have not been met.

TA-W-60,826; Paxar Americas, Inc., A Subsidiary of Paxar Corporation, Machine Div., Sayre, OR.

TA-W-60,944; Morton International, Inc., Salt Division, Weeks Island Facility, New Iberia, AL.

TA-W-61,000; Gibraltar DFC Strip Steel LLC, Farrell, NY.

TA-W-61,008A; Hutchens Industries, Inc., Fabrication Department, Mansfield, AR.

TA-W-61,029; Werner Co., Corporate Division, Greenville, MI.

TA-W-61,042; Kirkwood USA, Inc., Ripley, KS.

TA-W-61,044; Michigan Metal Coating Company, Metal Coatings International, Inc., Rochester Hills, SC.

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

TA-W-61,083; Intel Corporation, Optical Platform Division, Newark, NC.

The workers' firm does not produce an article as required for certification under Section 222 of the Trade Act of 1974.

TA-W-61,061; IBM Corporation, Integrated Technology Delivery Division, Hazelwood, GA.

TA-W-61,062; Logistic Services, Inc., Oklahoma City, IA.

TA-W-61,085; Verizon Business,Sub. of Verizon Communications, Wholesale Service, Tulsa, NC.

TA-W-61,239; Direct Holdings Libraries, Inc., Direct Holdings Americas, Inc., Chicago, MO.

The investigation revealed that criteria of Section 222(b)(2) has not been met. The workers' firm (or subdivision) is not a supplier to or a downstream producer for a firm whose workers were certified eligible to apply for TAA.

None.

I hereby certify that the aforementioned determinations were issued during the period of April 2 through April 6, 2007. Copies of these determinations are available for inspection in Room C-5311, U.S. Department of Labor, 200 Constitution Avenue, NW., Washington, DC 20210 during normal business hours or will be mailed to persons who write to the above address.

Dated: April 17, 2007.
Ralph Dibattista,
Director, Division of Trade Adjustment Assistance.

[FR Doc. E7-7723 Filed 4-23-07; 8:45 am]

BILLING CODE 4510-FN-P